DEPARTMENT OF COMMERCE

International Trade Administration

A-428-830

Stainless Steel Bar from Germany: Extension of Time Limit for the Preliminary Results of the New Shipper Review

AGENCY: Import Administration, International Trade Administration, Department of Commerce.

EFFECTIVE DATE: December 4, 2006.

FOR FURTHER INFORMATION CONTACT: Damian Felton or Brandon Farlander, AD/CVD Operations, Office 1, Import Administration, International Trade Administration, U.S. Department of Commerce, 14th Street and Constitution Avenue, NW, Washington DC 20230; telephone (202) 482-0133 or (202) 482-0182, respectively.

SUPPLEMENTARY INFORMATION:

Background

On April 26, 2006, the Department of Commerce (“the Department”) published a notice of initiation of a new shipper review of the antidumping duty order on stainless steel bar from Germany covering the period March 1, 2005, through February 28, 2006 (71 FR 24642). On May 10, 2006, Schmiedewerke Groditz GmbH (“SWG”) agreed to align the new shipper review with the ongoing fourth administrative review and waive the accelerated time limits for completion of the new shipper review. On July 28, 3006, the fourth administrative review was rescinded. (71 FR 42804). However, the new shipper review remains on the administrative review time line. The preliminary results for this new shipper review are currently due no later than December 1, 2006.

Extension of Time Limits for Preliminary Results

Section 751(a)(3)(A) of the Tariff Act of 1930, as amended (“the Act”), requires the Department to issue the preliminary results of an administrative review within 245 days after the last day of the anniversary month of an antidumping duty order for which a review is requested and issue the final results within 120 days after the date on which the preliminary results are published. However, if it is not practicable to complete the review within the time period, section 751(a)(3)(A) of the Act allows the Department to extend these deadlines to a maximum of 365 days and 180 days, respectively.

Due to the complexity of the issues in this case, including the need to issue another supplemental questionnaire, it is not practicable to complete the preliminary results of this review within the original time limit (i.e., December 1, 2006). Therefore, the Department is partially extending the time limit for completion of the preliminary results to no later than March 15, 2007.

We are issuing and publishing this notice in accordance with sections 751(a)(3)(A) and 777(i)(1) of the Act.

Dated: November 27, 2006.
Stephen J. Claeys,
Deputy Assistant Secretary for Import Administration.

[FR Doc. E6-20457 Filed 12-01-06; 8:45 am]

BILLING CODE 3510-DS-S